SECURITIES AND EXCHANGE COMMISSION

[File No. 500-1]

In the Matter of Tekron, Inc.; Order of Suspension of Trading

February 10, 2005.

It appears to the Securities and Exchange Commission that there is a lack of current and accurate information concerning the securities of Tekron, Inc. (“Tekron”) because of questions regarding, among other things, the authenticity of the Report of Independent Certified Public Accountants included in Tekron's Form 10-KSB for the annual period ended March 31, 2004, filed with the Commission on July 23, 2004, including whether the audit report accompanying the financial statements was prepared and issued by the auditors identified.

The Commission is of the opinion that the public interest and the protection of investors require a suspension of trading in securities related to Tekron.

Therefore, it is ordered, pursuant to section 12(k) of the Securities Exchange Act of 1934, that trading in all securities, as defined in section 3(a)(10) of the Securities Exchange Act of 1934, issued by Tekron, is suspended for the period from 9:30 a.m. e.s.t on February 10, 2005, and terminating at 11:59 p.m. e.s.t on February 24, 2005.

By the Commission.
Margaret H. McFarland,
Deputy Secretary.

[FR Doc. 05-2865 Filed 2-10-05; 11:33 am]

BILLING CODE 8010-01-P